DEPARTMENT OF COMMERCE

First Responder Network Authority

[Docket Number 170912896-7896-01]

RIN 0660-XC037

National Telecommunications and Information Administration; Notice of Intent To Prepare a Supplemental Programmatic Environmental Impact Statement and Conduct Scoping for the Nationwide Public Safety Broadband Network

AGENCY: First Responder Network Authority, National Telecommunications and Information Administration, U.S. Department of Commerce.

ACTION: Notice of intent.

SUMMARY: The First Responder Network Authority (“FirstNet”) announces its intent to prepare a Supplemental Programmatic Environmental Impact Statement (“PEIS”) and conduct scoping for the Nationwide Public Safety Broadband Network. The Supplemental PEIS will address the processes FirstNet will follow for National Environmental Policy Act (“NEPA”) compliance and assessing potential impacts at the site-specific scale.

DATES: The scoping period for this notice will begin on September 25, 2017 and will end on October 24, 2017. Submit comments on or before October 24, 2017.

ADDRESSES: The public is invited to submit written comments to this Notice. Written comments may be submitted electronically via email to PEIScomments@firstnet.gov or by mail (to the address listed in FOR FURTHER INFORMATION CONTACT). Comments received will be made part of the public record and may be posted to FirstNet's Web site (www.firstnet.gov) without change. Comments should be machine readable and should not be copy-protected. All personally identifiable information (e.g., name, address) voluntarily submitted by the commenter may be publicly accessible. Do not submit confidential business information or otherwise sensitive or protected information.

FOR FURTHER INFORMATION CONTACT: Amanda Goebel Pereira, NEPA Coordinator, First Responder Network Authority, National Telecommunications and Information Administration, U.S. Department of Commerce, 12201 Sunrise Valley Drive, M/S 243, Reston, VA 20192.

SUPPLEMENTARY INFORMATION: The Middle Class Tax Relief and Job Creation Act of 2012 (Pub. L. 112-96, Title VI, 126 Stat. 256 (codified at 47 U.S.C. 1401 et seq.)) (the “Act”) created and authorized FirstNet to take all actions necessary to ensure the building, deployment, and operation of an interoperable, nationwide public safety broadband network (“NPSBN”) based on a single, national network architecture. The Act meets a longstanding and critical national infrastructure need, to create a single, nationwide network that will, for the first time, allow police officers, fire fighters, emergency medical service professionals, and other public safety entities to effectively communicate with each other across agencies and jurisdictions. The NPSBN is intended to enhance the ability of the public safety community to perform more reliably, effectively, and safely; increase situational awareness during an emergency; and improve the ability of the public safety community to effectively engage in those critical activities.

The National Environmental Policy Act of 1969 (42 U.S.C. 4321-4347) (“NEPA”) requires federal agencies to undertake an assessment of environmental effects of their proposed actions prior to making a final decision and implementing the action. NEPA requirements apply to any federal project, decision, or action that may have a significant impact on the quality of the human environment. NEPA also establishes the Council on Environmental Quality (“CEQ”), which issued regulations implementing the procedural provisions of NEPA (40 CFR parts 1500-1508).

Due to the geographic scope of FirstNet (all 50 states, the District of Columbia, and five territories) and the diversity of ecosystems potentially traversed by the project, FirstNet has prepared, and is in the process of publishing, five regional Final PEISs. The five Final PEISs are divided into the East, Central, West, South, and Non-Contiguous Regions, and each analyzes potential impacts of the deployment and operation of the NPSBN on the natural and human environment based on impact significance criteria developed at the programmatic level. FirstNet has also recently prepared and published for public and agency comment a draft document outlining its revised Procedures for Implementing the National Environmental Policy Act, the public comment period for which ended July 24, 2017.

Now that FirstNet has selected a network partner for building out the NPSBN and the draft revised implementing procedures have been published, a Supplemental PEIS will be prepared that will (1) incorporate the final version of FirstNet's revised implementing procedures and will assess any changes to potential impacts to the human or natural environment at the programmatic level as a result of those revised procedures and (2) will describe the processes FirstNet will follow in accordance with NEPA to assess potential impacts at the site-specific scale using impact significance criteria to be developed using a resource-appropriate framework.

Dated: September 20, 2017.
Amanda Goebel Pereira,
NEPA Coordinator, First Responder Network Authority.

[FR Doc. 2017-20408 Filed 9-22-17; 8:45 am]

BILLING CODE 3510-TL-P